DEPARTMENT OF ENERGY

10 CFR Part 430

[Docket No. EERE-2011-BT-TP-0042]

RIN 1904-AC53

Energy Conservation Program for Consumer Products and Certain Commercial and Industrial Equipment: Test Procedures for Residential and Commercial Water Heaters; Correction

AGENCY: Office of Energy Efficiency and Renewable Energy, Department of Energy.

ACTION: Final rule; correction.

SUMMARY: On July 11, 2014, the U.S. Department of Energy published a final rule amending the test procedures for consumer water heaters and certain commercial water heaters. This correction addresses an error in one of the amendatory instructions for the regulatory text. Neither the error nor the correction in this document affects the substance of the rulemaking or any of the conclusions reached in support of the final rule.

DATES: Effective July 13, 2015.

FOR FURTHER INFORMATION CONTACT: Ms. Ashley Armstrong, U.S. Department of Energy, Office of Energy Efficiency and Renewable Energy, Building Technologies Program, Mailstop EE-5B, 1000 Independence Avenue SW., Washington, DC 20585-0121. Telephone: (202) 586-6590. Email: Ashley.Armstrong@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION: The U.S. Department of Energy (DOE) published a final rule in the Federal Register on July 11, 2014 (“the July 2014 final rule”), amending the test procedures for consumer and certain commercial water heaters. 79 FR 40542. In the rule, DOE incorporated by reference the American Society for Testing and Materials (ASTM) D2156-09, “Standard Test Method for Smoke Density in Flue Gases from Burning Distillate Fuels,” at 10 CFR 430.3(h)(1) for use in 10 CFR part 430, subpart B, Appendix E. The effective date for this rule is July 13, 2015.

On January 6, 2015, DOE published a final rule in the Federal Register (“the January 2015 final rule”) amending the test procedures for direct heating equipment and pool heaters. 80 FR 792. The January 2015 final rule incorporated by reference the same industry standard, ASTM D2156-09, at 10 CFR 430.3(i)(1) for use in 10 CFR part 430, subpart B, Appendix O. The effective date for this rule was February 5, 2015.

The July 2014 final rule instruction to incorporate by reference ASTM D2156-09 at 10 CFR 430.3(h)(1) conflicts with the January 2015 final rule instruction to incorporate by reference ASTM D2156-09 at 10 CFR 430.3(i)(1). The instruction in the July 2014 final rule would be in error if implemented as written, because it would needlessly duplicate the incorporation by reference of ASTM D2156-09, which was already incorporated by reference by the January 2015 final rule.

Amendatory instruction 8 on page 40567 of the Federal Register in the July 2014 final rule at 79 FR 40542 is, therefore, corrected to modify 10 CFR 430.3 to incorporate by reference ASTM D2156-09 for use in both Appendix E and Appendix O to subpart B. DOE notes that ASTM D2156-09 has already been approved for incorporation by reference for Appendix E (79 FR 40542) and Appendix O (80 FR 792), and, therefore, no additional action is necessary. The effective date of the July 2014 final rule at 79 FR 40542 remains July 13, 2015.

Correction

In FR Doc. 2014-15656 appearing on page 40542 in the issue of Friday, July 11, 2014, the following correction is made:

§ 430.3 [Corrected]

On page 40567, second column, § 430.3, amendatory instruction 8, is corrected to read as follows (and the text for paragraph (h) is removed):

§ 430.3 [Amended]

8. In § 430.3, amend paragraph (i)(1) by removing the phrase “appendix O” and adding in its place the phrase “appendices E and O”.

Issued in Washington, DC, on June 25, 2015.
Kathleen B. Hogan,
Deputy Assistant Secretary for Energy Efficiency, Energy Efficiency and Renewable Energy.

[FR Doc. 2015-16342 Filed 7-1-15; 8:45 am]

BILLING CODE 6450-01-P